DEPARTMENT OF COMMERCE

International Trade Administration

[A-570-979]

Crystalline Silicon Photovoltaic Cells, Whether or Not Assembled Into Modules, From the People's Republic of China: Notice of Partial Rescission of Antidumping Duty Administrative Review; 2016-2017

AGENCY: Enforcement and Compliance, International Trade Administration, Department of Commerce.

DATES: Applicable July 27, 2018.

FOR FURTHER INFORMATION CONTACT: Krisha Hill, AD/CVD Operations, Office IV, Enforcement and Compliance, International Trade Administration, U.S. Department of Commerce, 1401 Constitution Avenue NW, Washington, DC 20230, telephone: (202) 482-4037.

SUPPLEMENTARY INFORMATION:

Background

On December 7, 2012, the Department of Commerce (Commerce) published in the Federal Register the antidumping duty order on crystalline silicon photovoltaic cells, whether or not assembled into modules, from the People's Republic of China (China) (Order).¹ On December 4, 2017, Commerce published a notice of opportunity to request an administrative review of the Order.² Commerce received multiple timely requests for an administrative review of the Order. On February 23, 2018, in accordance with section 751(a) of Tariff Act of 1930, as amended (the Act), Commerce published in the Federal Register a notice of the initiation of an administrative review of the Order.³ The administrative review was initiated with respect to 45 companies or groups of companies, and covers the period from December 1, 2016, through November 30, 2017. All parties have subsequently timely withdrawn their requests to review the group Changzhou Trina Solar Energy Co., Ltd./Trina Solar (Changzhou) Science and Technology Co., Ltd./Yancheng Trina Solar Energy Technology Co., Ltd./Changzhou Trina Solar Yabang Energy Co., Ltd./Turpan Trina Solar Energy Co., Ltd./Hubei Trina Solar Energy Co., Ltd. (collectively, Trina).⁴

¹ See Crystalline Silicon Photovoltaic Cells, Whether or Not Assembled Into Modules, From the People's Republic of China: Amended Final Determination of Sales at Less Than Fair Value, and Antidumping Duty Order, 77 FR 73018 (December 7, 2012).

² See Antidumping or Countervailing Duty Order, Finding, or Suspended Investigation; Opportunity To Request Administrative Review, 82 FR 57219 (December 4, 2017).

³ See Initiation of Antidumping and Countervailing Duty Administrative Reviews, 83 FR 8058 (February 23, 2018) (Initiation Notice).

⁴ See Letter from SolarWorld Americas, Inc., “Crystalline Silicon Photovoltaic Cells, Whether or Not Assembled into Modules, from the People's Republic of China: Withdrawal of Request for Administrative Review and Request for Selection of Additional Mandatory Respondent,” dated April 5, 2018; see also Letter from Changzhou Trina Solar Energy Co., Ltd., Yancheng Trina Solar Energy Technology Co., Ltd., and Changzhou Trina Solar Yabang Energy Co., Ltd., “Crystalline Silicon Photovoltaic Cells, Whether Or Not Assembled into Modules from the People's Republic of China—Withdrawal of Request for Review,” dated April 4, 2018.

Rescission of Review, in Part

Pursuant to 19 CFR 351.213(d)(1), Commerce will rescind an administrative review, in whole or in part, if the party that requested the review withdraws its request within 90 days of the date of publication of the notice of initiation of the requested review. All parties withdrew their requests for an administrative review of Trina within 90 days of the date of publication of the Initiation Notice. Accordingly, Commerce is rescinding this review with respect to Trina, in accordance with 19 CFR 351.213(d)(1).

Assessment

Commerce will instruct U.S. Customs and Border Protection (CBP) to assess antidumping duties on all subject merchandise exported by Trina and entered, or withdrawn from warehouse, for consumption during the period of review at a rate equal to the cash deposit of estimated antidumping duties required at the time of entry in accordance with 19 CFR 351.212(c)(1)(i). Commerce intends to issue appropriate assessment instructions to CBP 15 days after publication of this notice in the Federal Register.

Notification to Importers

This notice serves as the only reminder to importers of their responsibility under 19 CFR 351.402(f)(2) to file a certificate regarding the reimbursement of antidumping duties prior to liquidation of the relevant entries during this review period. Failure to comply with this requirement could result in the presumption that reimbursement of the antidumping duties occurred and the subsequent assessment of doubled antidumping duties.

Notification Regarding Administrative Protective Orders

This notice also serves as the only reminder to parties subject to administrative protective order (APO) of their responsibility concerning the disposition of proprietary information disclosed under APO in accordance with 19 CFR 351.305(a)(3), which continues to govern business proprietary information in this segment of the proceeding. Timely written notification of the return or destruction of APO materials, or conversion to judicial protective order, is hereby requested. Failure to comply with the regulations and terms of an APO is a sanctionable violation.

This notice is issued and published in accordance with sections 751(a)(1) and 777(i)(1) of the Act, and 19 CFR 351.213(d)(4).

Dated: July 23, 2018.
James Maeder,
Associate Deputy Assistant Secretary for Antidumping and Countervailing Duty Operations, performing the duties of Deputy Assistant Secretary for Antidumping and Countervailing Duty Operations.

[FR Doc. 2018-16073 Filed 7-26-18; 8:45 am]

BILLING CODE 3510-DS-P